DEPARTMENT OF THE TREASURY

Office of the General Counsel

Appointment of Members of the Legal Division to the Performance Review Board, Internal Revenue Service

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, William Fox, Acting Deputy General Counsel.

2 John M. Dalrymple, Deputy Commissioner (Operations Support).

3. Eric Solomon, Deputy Assistant Secretary (Regulatory Affairs).

This publication is required by 5 U.S.C. 4314(c)(4).

Dated: September 4, 2003.
Emily A. Parker,
Acting Chief Counsel, Internal Revenue Service.

[FR Doc. 03-22947 Filed 9-8-03; 8:45 am]

BILLING CODE 4830-01-P